DEPARTMENT OF HOMELAND SECURITY

8 CFR Parts 214 and 274a

[DHS No. ICEB-2008-0002; ICE No. 2124-08]

RIN 1653-AA56

Extending Period of Optional Practical Training by 17 Months for F-1 Nonimmigrant Students With STEM Degrees and Expanding Cap-Gap Relief for All F-1 Students With Pending H-1B Petitions; Correction

AGENCY: U.S. Immigration and Customs Enforcement, U.S. Citizenship and Immigration Services; DHS.

ACTION: Interim final rule; correction.

SUMMARY: With this amendment, the Department of Homeland Security (DHS) corrects one typographical error and corrects two inadvertent omissions from the Optional Practical Training (OPT) interim final rule (IFR) published in the Federal Register on April 8, 2008.

DATES: Effective June 3, 2009.

FOR FURTHER INFORMATION CONTACT: Louis Farrell, Director, Student and Exchange Visitor Program; U.S. Immigration and Customs Enforcement, Department of Homeland Security; Potomac Center North, 500 12th Street, SW., Washington, DC 20536.

SUPPLEMENTARY INFORMATION:

Need for Correction

On April 8, 2008, the Department of Homeland Security (DHS) published an interim final rule in the Federal Register at 73 FR 18944 extending the maximum period of Optional Practical Training (OPT) from 12 months to 29 months for F-1 students who have completed a science, technology, engineering, or mathematics (STEM) degree with a degree code that is on the current STEM Designated Degree Program List, and who accept employment with employers enrolled in U.S. Citizenship and Immigration Services' (USCIS') E-Verify employment verification program. In that IFR, there was one typographical error and two inadvertent omissions. Through this amendment, DHS corrects those items.

First, DHS is correcting an error in the regulatory text of the interim final rule. The regulatory text that added new 8 CFR 274a.12(b)(6)(v) at 73 FR 18956 contains a typographical error. The paragraph begins with an unnecessary “Or”. Through this amendment, DHS removes that extra word.

Second, DHS is correcting two inadvertent omissions. In the amendatory language for amendment 2b at 73 FR 18954, DHS inadvertently omitted a reference to the revision to 8 CFR 214.2(f)(10)(ii)(D). While that revision was in the regulatory text of the document submitted to the Federal Register, it was not in the amendatory language of the document submitted to the Federal Register, and so it would not be accurately codified in the Code of Federal Regulations. Also, amendment 5b at 73 FR 18956 revised 8 CFR 274a.12(c)(3). It should have only revised 8 CFR 274a.12(c)(3)(i). As a result, 8 CFR 274a.12(c)(3)(ii) and 274a.12(c)(3)(iii) were inadvertently omitted.

List of Subjects

8 CFR Part 214

Administrative practice and procedure, Aliens, Employment, Foreign officials, Health professions, Reporting and recordkeeping requirements, Students.

8 CFR Part 274a

Administrative practice and procedure, Aliens, Employment, Penalties, Reporting and recordkeeping requirements.

For the reasons set forth in the preamble, 8 CFR part 214 and 274a are amended as follows:

PART 214—NONIMMIGRANT CLASSES

1. The authority citation for part 214 continues to read as follows:

Authority: 8 U.S.C. 1101, 1102, 1103, 1182, 1184, 1186a, 1187, 1221, 1281, 1282, 1301-1305 and 1372; section 643, Pub. L. 104-208, 110 Stat. 3009-708; Pub. L. 106-386, 114 Stat. 1477-1480; section 141 of the Compacts of Free Association with the Federated States of Micronesia and the Republic of the Marshall Islands, and with the Government of Palau, 48 U.S.C. 1901 note, and 1931 note, respectively; 8 CFR part 2.

2. Section 214.2 is amended by revising paragraph (f)(10)(ii)(D) to read as follows:

§ 214.2 Special requirements for admission, extension and maintenance of status.

* * * * *

(f) * * *

(10) * * *

(ii) * * *

(D) Duration of status while on post-completion OPT. For a student with approved post-completion OPT, the duration of status is defined as the period beginning when the student's application for OPT was properly filed and pending approval, including the authorized period of post-completion OPT, and ending 60 days after the OPT employment authorization expires (allowing the student to prepare for departure, change educational levels at the same school, or transfer in accordance with paragraph (f)(8) of this section).

* * * * *

PART 274a—CONTROL OF EMPLOYMENT OF ALIENS

3. The authority citation for part 274a continues to read as follows:

Authority: 8 U.S.C. 1101, 1103, 1324a; 8 CFR part 2; Pub. L. 101-410, 104 Stat. 890, as amended by Pub. L. 104-134, 110 Stat. 1321.

4. Section 274a.12 is amended by:

a. Removing the word “Or” from the beginning of paragraph (b)(6)(v); and

b. Adding paragraphs (c)(3)(ii) and (iii).

The additions read as follows:

§ 274a.12 Classes of aliens authorized to accept employment.

* * * * *

(c) * * *

(3) * * *

(ii) Has been offered employment under the sponsorship of an international organization within the meaning of the International Organization Immunities Act (59 Stat. 669) and who presents a written certification from the international organization that the proposed employment is within the scope of the organization's sponsorship. The F-1 student must also present a Form I-20 ID or SEVIS Form I-20 with employment page completed by DSO certifying eligibility for employment; or

(iii) Is seeking employment because of severe economic hardship pursuant to 8 CFR 214.2(f)(9)(ii)(C) and has filed the Form I-20 ID and Form I-538 (for non-SEVIS schools), or SEVIS Form I-20 with employment page completed by the DSO certifying eligibility, and any other supporting materials such as affidavits which further detail the unforeseen economic circumstances that require the student to seek employment authorization.

* * * * *

Christina E. McDonald,
Deputy Associate General Counsel for Regulatory Affairs.

[FR Doc. E9-12861 Filed 6-2-09; 8:45 am]

BILLING CODE 9111-28-P